DEPARTMENT OF THE INTERIOR

Bureau of Land Management

[XXX.LLAZG02000.71220000.KD0000.LVTFA0958340;AZA3116]

Notice of Availability of Record of Decision for the Ray Land Exchange Final Supplemental Environmental Impact Statement/Proposed Plan Amendment, Arizona

AGENCY: Bureau of Land Management, Interior.

ACTION: Notice of availability.

SUMMARY: In accordance with the National Environmental Policy Act of 1969, as amended, and Federal Land Policy and Management Act of 1976, as amended, the Bureau of Land Management (BLM), Gila District, announces the availability of the Record of Decision (ROD) for the Final Supplemental Environmental Impact Statement (EIS)/Plan Amendment for the Ray Land Exchange located in Pinal and Gila counties in southeastern Arizona.

DATES: Simultaneous to the publication of the Record of Decision, the BLM will publish in a local newspaper a Notice of Decision for the land exchange, which will initiate a 45-day protest period per 43 CFR 2200.7-1(b). Protests must be received by December 19, 2019.

ADDRESSES: Copies of the ROD are available upon request from the Project Manager, Michael Werner, address: One North Central Avenue, Suite 800, Phoenix, AZ 85004-4427, or on the BLM ePlanning project website at https://go.usa.gov/xEnKR. Copies of the ROD are available for public inspection at the BLM Arizona State Office, and the Kingman and Tucson Field Offices.

Protests related to the proposed land exchange, as described in the Notice of Decision, must be submitted in writing to the State Director, Attn: Project Manager—Ray Land Exchange Protest, U.S. Bureau of Land Management, Arizona State Office, One North Central Avenue, Suite 800, Phoenix, Arizona 85004-4427.

FOR FURTHER INFORMATION CONTACT: Project Manager Michael Werner, telephone: 602-417-9561; email: mwerner@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The BLM Arizona State Director signed the ROD on October 24, 2019 to amend the Phoenix, Lower Sonoran and Safford Resource Management Plans (RMPs) to change the land tenure status of all the Selected Lands originally considered to be exchanged (10,976 acres) from “retention” to “available for disposal” (approximately 9,906 acres in the Phoenix RMP (1989); approximately 637 acres in the Lower Sonoran RMP (2012); and approximately 433 acres in the Safford RMP (1992, 1994)). The ROD also approved a land exchange between ASARCO LLC and the BLM for 9,339 acres (7,196 acres of full estate and 2,143 acres of subsurface mineral estate only) of BLM-administered public lands for acquisition by ASARCO in exchange for approximately 7,298 acres (6,938 of full estate, and 360 of surface estate only) of private land. Implementation of the ROD occurs only upon expiration of the 45-day protest period for the land exchange (43 CFR 2201.7-1) and the resolution of any protests.

Before including your address, phone number, email address, or other personal identifying information in your appeal, you should be aware that your entire protest—including your personal identifying information—may be made publicly available at any time. While you can ask us in your protest to withhold your personal identifying information from public review, we cannot guarantee that we will be able to do so.

Under the approved Ray Land Exchange with ASARCO LLC, the BLM acquires 7,298 acres of land in Pinal and Mohave Counties, consolidating checkerboard land ownership in those areas and improving access to existing public lands for hunting and other types of recreation. In exchange, the BLM transfers to ASARCO 9,339 acres of surface and subsurface estate near ASARCO's Ray Mine Complex and Copper Butte properties in Pinal and Gila Counties, near Kearny. Since the public lands appraised at a higher value than the private lands, to equalize the value, the BLM will accept a cash payment of the maximum allowable amount (25 percent of the value of the federal lands) from ASARCO. Approximately 1,637 acres of surface and sub-surface estate originally selected by ASARCO will remain under BLM ownership.

The Ray Land Exchange Supplemental EIS/Plan Amendment was developed with stakeholder dialogue throughout the planning process. The BLM was not required to conduct scoping for the Supplemental EIS. However, the agency has conducted public outreach activities to inform the public and answer questions regarding the proposed land exchange. The efforts included conducting four public meetings, updating the mailing list for the project, contacting mailing list persons via postcard and newsletter, providing a detailed project website, and interviewing key stakeholders to present details of the land exchange and answer questions. The BLM also put the Draft Supplemental EIS out for a 90-day public comment period and responsed to comments in the Final Supplemental EIS. The Final Supplemental EIS/Proposed Plan Amendment was published on July 12, 2019.

The Ray Land Exchange Final Supplemental EIS/Proposed Plan Amendment required a 30-day protest period after publication of the Final Supplemental EIS. During the 30-day protest period, the BLM Director received one protest letter. Three of the protest points in the protest letter were remanded back to the State Director for resolution. These three protest points are resolved in the ROD. In addition, the protest letter contained comments on the Final Supplemental EIS. The majority of these comments were previously addressed in the Final Supplemental EIS as response to comments on the Draft Supplemental EIS and responses are captured in Appendix J of the Final Supplemental EIS. Some comments required additional explanation and clarification in the ROD. Neither the protests nor the comments required changes to the Final Supplemental EIS.

The BLM prepared an errata sheet to the Final Supplemental EIS to make some clarifications on BLM's subsurface estate acreage. No comments regarding potential inconsistencies with State and local plans, programs, and policies were received from the Governor's Office during the Governor's Consistency Review process.

(Authority: 40 CFR 1506.6)

Raymond Suazo,
Arizona State Director.

[FR Doc. 2019-24056 Filed 11-1-19; 8:45 am]

BILLING CODE 4130-32-P